DEPARTMENT OF HEALTH AND HUMAN SERVICES

Centers for Disease Control and Prevention

[60-Day-15-15AUE; Docket No. CDC-2015-0057]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comments on a proposed CDC-funded information collection entitled “Capacity Building Assistance Assessment for HIV Prevention”. This request is for a one-year Office of Management and Budget approval to assess the capacity of each community-based organizations (CBOs) and their partnership who receive federal funds to implement their Comprehensive High-Impact HIV Prevention activities.

DATES: Written comments must be received on or before September 28, 2015.

ADDRESSES: You may submit comments, identified by Docket No. CDC-2015-0057 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Capacity Building Assistance Assessment for HIV Prevention—New—National Center for HIV/AIDS, Viral Hepatitis, STD, and TB Prevention (NCHHSTP), Centers for Disease Control and Prevention (CDC).

Background and Brief Description

For over 30 years, Human Immunodeficiency Virus (HIV) has been an epidemic, affecting millions globally. According to the CDC, by the end of 2010 an estimated 1,144,500 persons aged 13 years and older were living with HIV infection in the U.S., including 180,900 (15.8%) persons who are unaware of their infection. Over the past 10 years, deaths among persons in the U.S. living with HIV have declined, the number of people living with HIV has increased, and the number of new HIV infections has remained stable with approximately 50,000 new infections annually.

Some groups are disproportionately affected by this epidemic. For example, between 2006 and 2009, there was an almost 50% increase in the number of new HIV infections among young Black men who have sex with men (MSM). In order to address these health disparities, the CDC is funding 90 CBOs and their collaborative partners (Partnerships) to address the national HIV epidemic by reducing new infections, increasing access to care, and promoting health equity; particularly for people living with and at greatest risk of HIV infection. This includes African Americans/Blacks; Latinos/Hispanics; all races and ethnicities of gay, bisexual, and other MSM; IDUs; and transgender persons.

Building the capacity of the funded organizations to conduct HIV programs and services is a priority to ensure effective and efficient delivery of HIV prevention treatment and care services. Since the late 1980s, CDC has been working with CBOs to broaden the reach of HIV prevention efforts. Over time, the CDC's program for HIV prevention has grown in size, scope, and complexity, responding to changes in approaches to addressing the epidemic, including the introduction of new guidance, effective behavioral, biomedical, and structural interventions, and public health strategies.

The Capacity Building Branch within the Division of HIV/AIDS Prevention (D provides national leadership and support for capacity building assistance (CBA) to help improve the performance of the HIV prevention workforce. One way that it accomplishes this task is by funding CBA providers to work with CBOs, health departments, and communities to increase their knowledge, skills, technology, and infrastructure to implement and sustain science-based, culturally appropriate interventions and public health strategies.

Applicants selected for funding must work with the CDC-funded CBA providers to develop and implement a Capacity Building Assistance Strategic Plan (CBASP). The information collected via this process will be used to construct a CBASP for each funded organization in collaboration with CDC's Capacity Building Branch (CBB). CBA Providers will provide technical assistance and training to ensure that the CBOs and Partnerships have the skills and support they need to successfully implement their CDC-funded HIV High Impact Prevention program.

CBA providers will conduct face-to-face field visits with the CBOs and partners utilizing the structured organizational needs assessment tool. This comprehensive tool consists of two Parts, (Part I and Part II). Part I will be completed by all organizations and Part II will be completed only by the lead organizations of a Partnership. The tool offers a mixed-methods data collection approach consisting of checklists, close-ended (quantitative) questions, and open-ended (qualitative) questions. CBOs will be asked to complete the tool prior to the field visits in order to maximize time during the visits for discussion and strategic planning.

Findings from this project will be used by the participating CBOs and Partnerships, the CBA providers, and the Capacity Building Branch. By the end of the project, the participating CBOs and Partnerships will have tailored CBA strategic plans that they can use to help sustain their programs across and beyond the life of their funding. Based on these plans, the CBA providers in collaboration with CDC will be able to better identify and address those needs most reported by CBOs. Finally, the Capacity Building Branch will be able to refine its approach to conceptualizing and providing CBA on a national level in the most cost-effective manner possible.

There is no cost to respondents other than their time.

Estimated Annualized Burden Hours
Type of respondents | Form name | Number of respondents | Number of responses per respondent | Average burden per response (in hours) | Total burden (in hours)
Grantees | CBO Needs Assessment Tool | 90 | 1 | 4 | 360
Total |  |  |  |  | 360

Leroy A. Richardson,
Chief, Information Collection Review Office, Office of Scientific Integrity, Office of the Associate Director for Science Office of the Director, Centers for Disease Control and Prevention.

[FR Doc. 2015-18357 Filed 7-27-15; 8:45 am]

BILLING CODE 4163-18-P